DEPARTMENT OF LABOR

Mine Safety and Health Administration

Petition for Modification of Application of an Existing Mandatory Safety Standard

AGENCY: Mine Safety and Health Administration, Labor.

ACTION: Notice.

SUMMARY: This notice includes the summary of a petition for modification submitted to the Mine Safety and Health Administration (MSHA) by the party listed below.

DATES: All comments on the petition must be received by MSHA's Office of Standards, Regulations, and Variances on or before November 26, 2021.

ADDRESSES: You may submit your comments including the docket number of the petition by any of the following methods:

1. Email: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Jessica D. Senk, Director, Office of Standards, Regulations, and Variances. Persons delivering documents are required to check in at the receptionist's desk in Suite 4E401. Individuals may inspect copies of the petition and comments during normal business hours at the address listed above. Before visiting MSHA in person, call 202-693-9455 to make an appointment, in keeping with the Department of Labor's COVID-19 policy. Special health precautions may be required.

MSHA will consider only comments postmarked by the U.S. Postal Service or proof of delivery from another delivery service such as UPS or Federal Express on or before the deadline for comments.

FOR FURTHER INFORMATION CONTACT: Jessica D. Senk, Office of Standards, Regulations, and Variances at 202-693-9440 (voice), Senk.Jessica@dol.gov (email), or 202-693-9441 (facsimile). [These are not toll-free numbers.]

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor (Secretary) determines that:

1. An alternative method of achieving the result of such standard exists which will at all times guarantee no less than the same measure of protection afforded the miners of such mine by such standard; or

2. The application of such standard to such mine will result in a diminution of safety to the miners in such mine.

3. In addition, sections 44.10 and 44.11 of 30 CFR establish the requirements for filing petitions for modification.

II. Petition for Modification

Docket Number: M-2021-033-C.

Petitioner: Consol Pennsylvania Coal Company LLC, 685 Patterson Creek Road, Sycamore, PA 15364.

Mine: Harvey Mine, MSHA ID No. 36-10045, located in Greene County, Pennsylvania.

Regulation Affected: 30 CFR 75.312(c) and (d) (Main mine fan examinations and records).

Modification Request: The petitioner requests modification of the existing standard 30 CFR 75.312(c) and (d) to permit an alternative method of compliance as it pertains to a mine fan shutdown to test the automatic fan stoppage signal device and to determine that air flow reversal prevention doors will automatically close when the fan shuts down. The petitioner proposes an alternate method of performing the main fan tests without shutting down the fan(s) and without removing the miners from the mine.

The petitioner states that:

1. Harvey Mine is a large mine with a complex ventilation system consisting of both intake and exhaust shafts. The exhaust shafts have main mine fans connected to them. Each fan is equipped with a pressure recording device and an automatic signal system designed to give an alarm should the fan slow or stop. All exhaust fans are equipped with automatic closing doors to prevent the reversal of air into the mine upon a shutdown of the fan.

2. Because of the complexity of the ventilation system, shutting down any fans creates the potential for effects on the system which may require evaluation and delay. Use of the methods described below will minimize the hazards associated with stopping the fans in a complex ventilation system.

3. The mine liberates significant amounts of methane in a 24-hour period. Disruption of the ventilation system by stopping and starting the fans can cause damage underground and/or to ventilation fans. This damage can result in methane accumulations underground. Stopping and starting the fans has the potential to damage the electrical and mechanical systems of the fans.

4. If a fan does not restart within 15 minutes of shutdown, a lengthy restart of the mine operating system is required. This includes a 3- to 4-hour examination, reset of underground mine power, and return of the workers (who must exit the mine when testing begins) to their assigned work areas.

5. A mine with multiple ventilation fans must equip air flow reversal prevention doors on those fans where air reversal is possible. These doors close in the event of a fan stoppage to prevent the air flow in the mine from reversing direction.

Petitioner proposes the following alternative method:

The petitioner's alternative test method consists of manually moving the test frame assembly toward the horizontal position (operation position) of the door while the fan is in operation. Since the test frame and air flow reversal prevention door both use the same horizontal bearing support shaft for bearing attachment, the test will verify that the solid air flow reversal prevention door will close in the event of a fan stoppage. If the test frame will move to the door and form a tight fit, then the door will close against the fan housing during an actual fan stoppage and form a tight fit when the air flow that keeps the door open stops.

a. The modification will apply to exhausting main mine fans only. Mine fans subject to this modification shall be equipped with a special fan door assembly consisting of an open test frame and a solid air flow reversal prevention door. The test frame shall be attached to a rotatable shaft and latched to the fan housing during normal operation. The air flow reversal prevention door shall be attached by bearing sets to the shaft supporting the test frame and shall be rotatable around the shaft. The air flow reversal prevention door shall be kept open during normal fan operation only by air flowing from the fan. It shall fit tightly against the fan housing when the fan stops closing the door. The test frame shall be latched against the fan housing when not being used for testing.

b. The air flow reversal prevention door(s) shall be tested at least every 31 days by rotating the test frame outward from its latched position until it contacts the air flow reversal prevention door. Rotation of the test frame shall also rotate the shaft and bearings hinging the air flow reversal prevention door.

c. After the initial test, the door and frame test system will be evaluated by MSHA and upon MSHA approval, testing shall occur at least every 31 days. The person(s) conducting the test must be able to visually observe the movement of the test frame and to visually observe the rotation of the attached shaft. The person(s) conducting the testing shall observe the contact between the test frame and the air flow reversal prevention door to determine that a proper fit exists. Also, the person(s) shall observe the general maintenance of the metal door and test frame for good repair.

d. The method of using fans with multiple louvered air flow reversal prevention doors is as follows:

i. When fans are equipped with multiple louvered air flow reversal prevention door assemblies, each of these doors shall be mounted to a rotatable shaft with a modified end.

ii. Fans with multiple louvered air flow reversal prevention doors will be tested at least every 31 days by using a torque wrench or lever. Each individual door will be rotated to a closed position, using the special wrench, or lever on the end of the shaft, to insure that they are functioning correctly. A record of the torque reading shall be maintained. If any torque reading increases by 15 percent or more, the cause shall be investigated and corrective actions taken. A record of the investigation and any corrective action taken shall be made and the results made available for inspection by MSHA and the miners' representative.

e. Each air flow reversal prevention door shall be tested at least every 7 months by stopping the fan to ensure the door automatically closes when the fan shuts down.

f. Each fan subject to this petition shall be provided with a fan alarm signal system consisting of:

i. A motor run fail safe relay energized through a contact provided on the main starter vacuum contactor;

ii. An automatic fan signal device is provided by a fail-safe relay energized by the chart recorder (water gauge) with the trip ranges set to alarm when 25 percent of normal operating water gauge pressure is lost;

iii. A dial out computer that monitors power to the fan signal. When this control power is lost, the computer will call preprogramed telephone numbers and notify the responsible person of the power loss; and

iv. A mine monitoring system that monitors each fan signal. If the monitoring system loses a signal or has a communication loss, or if any of the previously mentioned alarms are triggered, the monitoring system will sound a visible and audible alarm. The visible and audible alarm will be provided at a location where a responsible person is always on duty and has two-way communications with working sections and where people are normally scheduled to work.

g. The automatic fan signal device will be tested at least every 31 days by manually operating a valve near the fan pressure recording chart reducing the pressure on the water gauge to activate the fan signal. The actuation of the fan alarm will be verified by a responsible person at the location where the responsible person is always on duty when anyone is underground.

h. Each automatic fan signal device and signal alarm shall be tested at least every 7 months by stopping the fan to ensure that the automatic signal device causes the alarm to activate when the fan shuts down.

i. The petitioner shall notify the MSHA District Manager when each fan is equipped with the test frame, air flow reversal prevention door, and fan alarm signal system, so that MSHA may conduct an inspection prior to testing the door and alarm in accordance with the terms and conditions of this petition. If required by the District Manager, the test procedure shall be demonstrated and the fan shall be shut down during this MSHA inspection to verify that the air flow reversal prevention door closes and the automatic fan signal activates an alarm at the location of the responsible person.

j. Until all mine fans are equipped in compliance with this petition, the miners must be removed from the mine for the testing of any fan not equipped as required by the terms and conditions of this petition.

k. Person(s) performing the fan signal device or air flow reversal prevention door test(s) shall record the result of the test(s) in a secure book prior to the end of the shift when testing takes place. The record book shall be retained at a surface location at the mine for at least 1 year and shall be made available for inspection by an authorized representative of the Secretary and the representative of miners. Such records shall also indicate the general repair of the system.

l. Within 60 days of the petition being granted, the petitioner shall submit proposed revisions for its approved 30 CFR part 48 training plan to MSHA's District Manager. These proposed revisions shall include initial and refresher training regarding compliance with the terms and conditions of the petition. Also, miners who are to perform tests under the petition must be specifically trained on the proper method of testing upon initial assignment to these responsibilities and at least annually thereafter.

The petitioner asserts that the alternate method proposed will at all times guarantee no less than the same measure of protection afforded the miners under the mandatory standard.

Jessica Senk,
Director, Office of Standards, Regulations, and Variances.

[FR Doc. 2021-23405 Filed 10-26-21; 8:45 am]

BILLING CODE 4520-43-P